DEPARTMENT OF JUSTICE

Notice of Lodging of Proposed Consent Decree Under the Federal Water Pollution Control Act

Notice is hereby given that on November 13, 2009, a proposed Consent Decree was filed with the United States District Court for the District of Nebraska in United States et al. v. City of West Point, et al., No. 08-00293 (D. Neb.). The proposed Consent Decree entered into by the United States, the State of Nebraska, and Wimmer's Meat Products, Inc., resolves the United States' and State of Nebraska's claims against Wimmer's under the pre-treatment requirements of the Federal Water Pollution Control Act (Clean Water Act), 40 CFR part 403 and 33 U.S.C. 1311, 1317, related to its discharges to the Publicly Owned Treatment Works in West Point, Nebraska. Under the terms of the Consent Decree, Wimmer's shall pay a civil penalty to the United States of $77,500 and a civil penalty to the State of $34,100. In addition, Wimmer's shall contribute $43,400 to the West Point Community Foundation to fund a state-supervised Supplemental Environmental Project.

The Department of Justice will receive comments relating to the proposed Consent Decree for a period of thirty (30) days from the date of this publication. Comments should be addressed to the Assistant Attorney General, Environment and Natural Resources Division, and either e-mailed to pubcomment-ees.enrd@usdoj.gov or mailed to P.O. Box 7611, U.S. Department of Justice, Washington, DC 20044-7611, and should refer to United States et al. v. City of West Point, et al., DJ Ref. No. 90-5-1-1-09326.

The proposed Agreement may be examined at the Office of the United States Attorney for the District of Nebraska, 487 Federal Building, 100 Centennial Mall North, Lincoln NE 68508, and at the Environmental Protection Agency, Region 7, 901 N. 5th St., Kansas City, KS 66101. During the public comment period, the proposed Agreement may also be examined on the following Department of Justice Web site, http://www.usdoj.gov/enrd/Consent_Decrees.html. A copy of the proposed Agreement may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $4.00 (25 cents per page reproduction cost) payable to the U.S. Treasury.

Maureen Katz,
Assistant Section Chief, Environmental Enforcement Section, Environment and Natural Resources Division.

[FR Doc. E9-27957 Filed 11-20-09; 8:45 am]

BILLING CODE 4410-15-P